ENVIRONMENTAL PROTECTION AGENCY

[EPA-HQ-OLEM-2020-0689; FRL 8372-03-OLEM]

Information for Petitioners Seeking a No-Migration Variance Under the RCRA Land Disposal Restrictions for Temporary Placement of Treated Hazardous Waste Within a Permitted Subtitle C Landfill

AGENCY: Environmental Protection Agency (EPA).

ACTION: Guidance policy.

SUMMARY: The Environmental Protection Agency (EPA) is finalizing guidance on petitions for a No Migration Variance (NMV) under the Land Disposal Restrictions (LDRs) pursuant to the Resource Conservation and Recovery Act (RCRA) for persons applying for a NMV for a waste pile temporarily located within a RCRA-permitted Subtitle C landfill cell. EPA solicited public comments on a draft of this guidance on January 19, 2021 (86 FR 5190). The public comment period ended February 18, 2021. EPA received nine (9) comments on the draft guidance. EPA appreciates the comments. The Agency carefully considered all of the points raised and has concluded that the comments do not provide reason for EPA to modify the guidance as it was proposed. Accordingly, EPA is finalizing the guidance without alteration. The guidance and the Agency's response to these comments are located in the Docket (EPA-HQ-OLEM-2020-0689).

FOR FURTHER INFORMATION CONTACT: Bethany Russell, Waste Characterization Branch, Materials Recovery and Waste Management Division, Office of Resource Conservation and Recovery (5304P), Environmental Protection Agency, 1200 Pennsylvania Ave NW, Washington, DC 20460; email address: russell.bethany@epa.gov. Phone: 404-562-8542.

SUPPLEMENTARY INFORMATION:

I. General Information

A. Does this action apply to me?

This notice is directed to the public in general. However, it will be of particular interest to RCRA Subtitle C permitted landfills.

B. How can I get copies of this document and other related information?

1. Docket. EPA has established a docket for this action under Docket ID No. EPA-HQ-OLEM-2020-0689. Publicly available docket materials are available either electronically through www.regulations.gov or in hard copy at the EPA Docket Center, WJC West Building, Room 3334, 1301 Constitution Ave. NW, Washington, DC. The Docket Center's hours of operations are 8:30 a.m.-4:30 p.m., Monday-Friday (except Federal Holidays). For further information on the EPA Docket Center services and the current status, see: https://www.epa.gov/dockets.

2. Electronic Access. You may access this Federal Register document electronically from https://www.federalregister.gov/documents/current. You may access the full guidance document at https://rcrapublic.epa.gov/rcraonline/details.xhtml?rcra=14952.

Dated: February 14, 2023.
Carolyn Hoskinson,
Director, Office of Resource Conservation and Recovery, Office of Land and Emergency Management.

[FR Doc. 2023-03651 Filed 2-21-23; 8:45 am]

BILLING CODE 6560-50-P